ENVIRONMENTAL PROTECTION AGENCY

40 CFR Part 281

[EPA-R10-UST-2011-0097; FRL-9296-1]

Oregon: Tentative Approval of State Underground Storage Tank Program: Public Hearing Cancellation

AGENCY: Environmental Protection Agency (EPA).

ACTION: Proposed rule; cancellation of notice of public hearing.

SUMMARY: This document cancels a public hearing on a proposed rulemaking relating to the State of Oregon's application for final approval of its Underground Storage Tank (UST) Program under Subtitle I of the Resource Conservation and Recovery Act (RCRA). The Environmental Protection Agency did not receive any comments or a request for a public hearing.

DATES: The public hearing originally scheduled for April 13, 2011 at 9 a.m. has been cancelled.

FOR FURTHER INFORMATION CONTACT: Katherine Griffith, U. S. Environmental Protection Agency, Region 10, 1200 Sixth Avenue, Suite 900, Mail Stop: OCE-082, Seattle, WA 98101, phone number: (206) 553-2901, e-mail: griffith.katherine@epa.gov.

SUPPLEMENTARY INFORMATION: A notice of proposed rulemaking and a notice of public hearing that appeared in the Federal Register on Wednesday, March 2, 2011 (76 FR 11404) announced that a public hearing was scheduled for April 13, 2011, at 9 a.m. at the United States Environmental Protection Agency, 805 SW. Broadway, Suite 500, Portland, Oregon 97205.

The public comment period for the proposed rulemaking expired on April 1, 2011. The notice of proposed rulemaking and notice of public hearing instructed those interested in testifying at the public hearing to submit a request. As of Monday, April 4, 2011, no one has requested to speak. Therefore, the public hearing scheduled for April 13, 2011, is cancelled.

Dated: April 8, 2011.
Dennis J. McLerran,
Regional Administrator, Region 10.

[FR Doc. 2011-9184 Filed 4-14-11; 8:45 am]

BILLING CODE 6560-50-P